DEPARTMENT OF THE TREASURY

Office of Foreign Assets Control

Additional Designations of Individuals Pursuant to Executive Order 13310

AGENCY: Office of Foreign Assets Control, Treasury.

ACTION: Notice.

SUMMARY: The Treasury Department's Office of Foreign Assets Control (“OFAC”) is publishing the names of eleven newly-designated individuals whose property and interests in property are blocked pursuant to Executive Order 13310 of July 28, 2003, “Blocking Property of the Government of Burma and Prohibiting Certain Transactions.”

DATES: The designation by the Director of OFAC of eleven individuals identified in this notice, pursuant to Executive Orders 13310, is effective October 19, 2007.

FOR FURTHER INFORMATION CONTACT: Assistant Director, Compliance Outreach & Implementation, Office of Foreign Assets Control, Department of the Treasury, 1500 Pennsylvania Avenue, NW., (Treasury Annex), Washington, DC 20220, Tel.: 202/622-2490.

SUPPLEMENTARY INFORMATION:

Electronic and Facsimile Availability

Information about this designation and additional information concerning OFAC are available from OFAC's Web site (http://www.treas.gov/ofac) or via facsimile through a 24-hour fax-on-demand service, Tel.: 202/622-0077.

Background

On July 28, 2003, the President issued Executive Order 13310 (the “Order”) pursuant to, inter alia, the International Emergency Economic Powers Act (50 U.S.C. 1701-06). In the Order, the President took additional steps with respect to the national emergency declared in Executive Order 13047 of May 20, 1997, to address the Government of Burma's continued repression of the democratic opposition. The President identified four entities as subject to the economic sanctions in the Annex to the Order.

Section 1 of the Order blocks, with certain exceptions, all property and interests in property that are in, or hereafter come within, the United States, or within the possession or control of United States persons, of the persons listed in the Annex, as well as those persons determined by the Secretary of the Treasury, in consultation with the Secretary of State, to satisfy any of the criteria set forth in subparagraphs (b)(i) and b(ii) of Section 1. On October 19, 2007, the Director of OFAC exercised the Secretary of the Treasury's authority to designate, pursuant to one or more of the criteria set forth in Section 1, subparagraphs (b)(i) and (b)(ii) of the Order, the following eleven individuals, whose names have been added to the list of Specially Designated Nationals and whose property and interests in property are blocked pursuant to Executive Order 13310:

1. MYINT, KYAW (a.k.a. DR. KYAW MYINT); Burma; DOB 1940; citizen Burma; nationality Burma; Minister of Health (individual) [BURMA].

2. NYEIN, CHAN (a.k.a. DR. CHAN NYEIN; a.k.a. DR. CHANG NYEIN); Burma; DOB 1944; citizen Burma; nationality Burma; Minister of Education (individual) [BURMA].

3. LIN, AUNG THEIN (a.k.a. LYNN, AUNG THEIN); Burma; DOB 1952; citizen Burma; nationality Burma; Brigadier General, Mayor and Chairman of Yangon City (Rangoon) City Development Committee (individual) [BURMA].

4. LWIN, SAW; Burma; DOB 1939; citizen Burma; nationality Burma; Major General, Minister of Industry 2 (individual) [BURMA].

5. MIN, ZAW; Burma; DOB 10 Jan 1949; citizen Burma; nationality Burma; Colonel, Minister of Electric Power 1 (individual) [BURMA].

6. THA, SOE; Burma; DOB 1945; citizen Burma; nationality Burma; Minister of National Planning and Economic Development (individual) [BURMA].

7. THAUNG (a.k.a. U THAUNG); Burma; DOB 6 Jul 1937; citizen Burma; nationality Burma; Minister of Labor; Minister of Science & Technology (individual) [BURMA].

8. THEIN, TIN NAING; Burma; DOB 1955; citizen Burma; nationality Burma; Brigadier General, Minister of Commerce (individual) [BURMA].

9. TUN, HLA; Burma; DOB 11 Jul 1951; citizen Burma; nationality Burma; Major General, Minister of Finance and Revenue (individual) [BURMA].

10. TUN, SAW; Burma; DOB 8 May 1935; citizen Burma; nationality Burma; Major General, Minister of Construction (individual) [BURMA].

11. ZAW, THEIN; Burma; DOB 20 Oct 1951; citizen Burma; nationality Burma; Brigadier General, Minister of Telecommunications, Post, & Telegraph (individual) [BURMA].

Dated: October 19, 2007.
Adam J. Szubin,
Director, Office of Foreign Assets Control.

[FR Doc. E7-21074 Filed 10-24-07; 8:45 am]

BILLING CODE 4811-42-P